DEPARTMENT OF LABOR

Employment and Training Administration

[TA-W-64,232]

Sierra Pine Ltd., Medite Division, Including On-Site Workers Leased From Personnel Source, Medford, OR; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on October 24, 2008, applicable to all workers of Sierra Pine Ltd., Medite Division, Medford, Oregon. The notice was published in the Federal Register on November 10, 2008 (73 FR 66676).

At the request of a State agency representative, the Department reviewed the certification for workers of the subject firm. The workers produce medium density fiberboard.

New information submitted to the Department shows that the worker group includes on-site workers leased from Personnel Source.

The intent of the Department's certification is to include all workers of Sierra Pine Ltd., Medite Division, Medford, Oregon, who were adversely affected by increased imports.

Accordingly, the Department is amending this certification to include on-site workers leased from Personnel Source.

The amended notice applicable to TA-W-65,232 is hereby issued as follows:

All workers of Sierra Pine Ltd., Medite Division, Medford, Oregon, including on-site leased workers from Personnel Source, who became totally or partially separated from employment on or after October 15, 2007 through October 24, 2010, are eligible to apply for adjustment assistance under Section 223 of the Trade Act of 1974 and are also eligible to apply for alternative trade adjustment assistance under Section 246 of the Trade Act of 1974.

Signed at Washington, DC, this 26th day of June 2009.
Linda G. Poole,
Certifying Officer, Division of Trade Adjustment Assistance.

[FR Doc. E9-16626 Filed 7-13-09; 8:45 am]

BILLING CODE 4510-FN-P